FEDERAL MARITIME COMMISSION

[Docket No. 01-03]

Pactrans Air & Sea, Inc. v. Altraco, Inc.; Notice of Filing of Complaint and Assignment

Notice is given that a complaint has been filed with the Federal Maritime Commission (“Commission”) by Pactrans Air & Sea, Inc. (“Complainant” or “Pactrans”) against Altraco, Inc. (“Respondent”).

Complainant is a non-vessel-operating common carrier ocean transportation intermediary. Among other things, Complainant alleges that Respondent knowingly and willfully violated section 10(a)(1) of the Shipping Act of 1984, as amended, (“Shipping Act”) by causing Pactrans to lose its maritime lien and by using an unfair device or means to gain free transportation. Complainant asks that the Commission issue an order against Respondent finding it in violation of the Shipping Act. Complainant also asks for an order compelling Respondent to make reparations to Complainant in an amount to be proved at an administrative hearing, plus interest, costs, and reasonable attorneys' fees; an order holding that the Respondent's activities described in the complaint are unlawful and in violation of section 10(a)(1) of the Shipping Act and ordering that Respondent cease and desist from such unlawful activities; and such other and further relief as the Commission deems just and proper. Complainant requests that hearing be held in Washington, DC.

This proceeding has been assigned to the office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by February 25, 2002, and the final decision of the Commission shall be issued by June 25, 2002.

Bryant L. VanBrakle,
Secretary.

[FR Doc. 01-4929 Filed 3-2-01; 8:45 am]

BILLING CODE 6730-01-M